DEPARTMENT OF ENERGY

Federal Energy Regulatory Commission

Combined Notice of Filings #1

Take notice that the Commission received the following electric rate filings:

Docket Numbers: ER16-205-001.

Applicants: DATC Path 15, LLC.

Description: Tariff Amendment: amendment to 300011 to be effective 1/1/2016.

Filed Date: 1/7/16.

Accession Number: 20160107-5070.

Comments Due: 5 p.m. ET 1/28/16.

Docket Numbers: ER16-208-001.

Applicants: International Transmission Company, Michigan Electric Transmission Company, LLC, ITC Midwest LLC.

Description: Compliance Filing of the ITC Companies.

Filed Date: 1/7/16.

Accession Number: 20160107-5135.

Comments Due: 5 p.m. ET 1/28/16.

Docket Numbers: ER16-316-001.

Applicants: PJM Interconnection, L.L.C.

Description: Tariff Amendment: Amendment to Clean-Up Filing in Docket No. ER16-316-000 to be effective 12/31/9998.

Filed Date: 1/6/16.

Accession Number: 20160106-5316.

Comments Due: 5 p.m. ET 1/27/16.

Docket Numbers: ER16-688-000.

Applicants: Midcontinent Independent System Operator, Inc.

Description: Section 205(d) Rate Filing: 2016-01-07_SA 2748 ATC-WPL Amended CFA to be effective 3/7/2016.

Filed Date: 1/7/16.

Accession Number: 20160107-5085.

Comments Due: 5 p.m. ET 1/28/16.

Docket Numbers: ER16-689-000

Applicants: Midcontinent Independent System Operator, Inc.

Description: Section 205(d) Rate Filing: 2016-01-07_SA 2756 ATC-WPSC Amended CFA to be effective 3/7/2016.

Filed Date: 1/7/16.

Accession Number: 20160107-5086.

Comments Due: 5 p.m. ET 1/28/16.

Docket Numbers: ER16-690-000.

Applicants: Midcontinent Independent System Operator, Inc.

Description: Section 205(d) Rate Filing: 2016-01-07_SA 2761 ATC-UPPCO Amended CFA to be effective 3/7/2016.

Filed Date: 1/7/16.

Accession Number: 20160107-5087.

Comments Due: 5 p.m. ET 1/28/16.

Docket Numbers: ER16-691-000.

Applicants: Midcontinent Independent System Operator, Inc.

Description: Section 205(d) Rate Filing: 2016-01-07_SA 2772 ATC-MGE Amended CFA to be effective 3/7/2016.

Filed Date: 1/7/16.

Accession Number: 20160107-5088.

Comments Due: 5 p.m. ET 1/28/16.

Docket Numbers: ER16-692-000.

Applicants: Midcontinent Independent System Operator, Inc.

Description: Section 205(d) Rate Filing: 2016-01-07_SA 2779 ATC-WE Amended CFA to be effective 3/7/2016.

Filed Date: 1/7/16.

Accession Number: 20160107-5089.

Comments Due: 5 p.m. ET 1/28/16.

Docket Numbers: ER16-693-000.

Applicants: California Independent System Operator Corporation.

Description: Section 205(d) Rate Filing: 2016-01-07 IPE 2015 Process Enhancements to be effective 3/8/2016.

Filed Date: 1/7/16.

Accession Number: 20160107-5140.

Comments Due: 5 p.m. ET 1/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2016.
Nathaniel J. Davis, Sr.,
Deputy Secretary.

[FR Doc. 2016-00487 Filed 1-12-16; 8:45 am]

BILLING CODE 6717-01-P